DEPARTMENT OF HOMELAND SECURITY

Federal Emergency Management Agency

[Docket ID FEMA-2014-0002; Internal Agency Docket No. FEMA-B-1419]

Proposed Flood Hazard Determinations

Correction

In notice document 2014-16051, appearing on pages 38935-38939 in the issue of Wednesday, July 9, 2014, make the following correction:

On pages 38935-38939, the tables should appear as follows:

I. Watershed-based studies:

8
Community | Community map repository address
Lower Susquehanna Watershed
Lancaster County, Pennsylvania (All Jurisdictions)
Maps Available for Inspection Online at: http://www.fema.gov/preliminaryfloodhazarddata
Borough of Adamstown | Borough Office, 3000 North Reading Road, Adamstown, PA 19501.
Borough of Akron | Borough Office, 117 South 7th Street, Akron, PA 17501.
Borough of Christiana | Borough Hall, 10 West Slokom Avenue, Christiana, PA 17509.
Borough of Columbia | Borough Hall, 308 Locust Street, Columbia, PA 17512.
Borough of Denver | Borough Office, 501 Main Street, Denver, PA 17517.
Borough of East Petersburg | Borough Hall, 6040 Main Street, East Petersburg, PA 17520.
Borough of Elizabethtown | Borough Office, 600 South Hanover Street, Elizabethtown, PA 17022.
Borough of Ephrata | Borough Office, 124 South State Street, Ephrata, PA 17522.
Borough of Lititz | Borough Office, 7 South Broad Street, Lititz, PA 17543.
Borough of Manheim | Borough Office, 15 East High Street, Manheim, PA 17545.
Borough of Marietta | Borough Office, 111 East Market Street, Marietta, PA 17547.
Borough of Millersville | Borough Office, 100 Municipal Drive, Millersville, PA 17551.
Borough of Mount Joy | Borough Office, 21 East Main Street, Mount Joy, PA 17552.
Borough of Mountville | Borough Office, 21 East Main Street, Mountville, PA 17554.
Borough of Quarryville | Borough Office, 300 Saint Catherine Street, Quarryville, PA 17566.
Borough of Strasburg | Borough Office, 145 Precision Avenue, Strasburg, PA 17579.
City of Lancaster | Lancaster Municipal Building, 120 North Duke Street, Lancaster, PA 17608.
Township of Bart | Bart Township Office, 46 Quarry Road, Quarryville, PA 17566.
Township of Brecknock | Brecknock Township Office, 1026 Dry Tavern Road, Denver, PA 17517.
Township of Caernarvon | Caernarvon Township Office, 2147 Main Street, Narvon, PA 17555.
Township of Clay | Clay Township Office, 870 Durlach Road, Stevens, PA 17578.
Township of Colerain | Colerain Township Office, 1803 Kirkwood Pike, Kirkwood, PA 17536.
Township of Conestoga | Township Municipal Building, 3959 Main Street, Conestoga, PA 17516.
Township of Conoy | Conoy Township Office, 211 Falmouth Road, Bainbridge, PA 17502.
Township of Drumore | Township Office, 1675 Furniss Road, Drumore, PA 17518.
Township of Earl | Earl Township Office, 517 North Railroad Avenue, New Holland, PA 17557.
Township of East Cocalico | East Cocalico Township Office, 100 Hill Road, Denver, PA 17517.
Township of East Donegal | East Donegal Municipal Building, 190 Rock Point Road, Marietta, PA 17547.
Township of East Drumore | East Drumore Township Municipal Building, 925 Robert Fulton Highway, Quarryville, PA 17566.
Township of East Earl | Municipal Building, 4610 Division Highway, East Earl, PA 17519.
Township of East Hempfield | East Hempfield Township Office, 1700 Nissley Road, Landisville, PA 17538.
Township of East Lampeter | East Lampeter Township Office, 2250 Old Philadelphia Pike, Lancaster, PA 17602.
Township of Eden | Eden Township Office, 489 Stony Hill Road, Quarryville, PA 17566.
Township of Elizabeth | Elizabeth Township Office, 423 South View Drive, Lititz, PA 17543.
Township of Ephrata | Township Office, 265 Akron Road, Ephrata, PA 17522.
Township of Fulton | Fulton Municipal Building, 777 Nottingham Road, Peach Bottom, PA 17563.
Township of Lancaster | Township Municipal Building, 1240 Maple Avenue, Lancaster, PA 17603.
Township of Leacock | Leacock Township Office, 3545 West Newport Road, Intercourse, PA 17534.
Township of Little Britain | Little Britain Municipal Building, 323 Green Lane, Quarryville, PA 17566.
Township of Manheim | Manheim Township Office, 1840 Municipal Drive, Lancaster, PA 17601.
Township of Manor | Manor Township Office, 950 West Fairway Drive, Lancaster, PA 17603.
Township of Martic | Martic Municipal Building, 370 Steinman Farm Road, Pequea, PA 17565.
Township of Mount Joy | Mount Joy Township Office, 159 Merts Drive, Elizabethtown, PA 17022.
Township of Paradise | Township Office, 2 Township Drive, Paradise, PA 17562.
Township of Penn | Penn Township Office, 97 North Penryn Road, Manheim, PA 17545.
Township of Pequea | Pequea Township Office, 1028 Millwood Road, Willow Street, PA 17584.
Township of Providence | Providence Township Office, 200 Mount Airy Road, New Providence, PA 17560.
Township of Rapho | Rapho Township Office, 971 North Colebrook Road, Manheim, PA 17545.
Township of Sadsbury | Sadsbury Township Office, 7182 White Oak Road, Christiana, PA 17509.
Township of Salisbury | Salisbury Township Office, 5581 Old Philadelphia Pike, Gap, PA 17527.
Township of Strasburg | Township Office, 400 Bunker Hill Road, Strasburg, PA 17579.
Township of Upper Leacock | Upper Leacock Township Office, 36 Hillcrest Avenue, Leola, PA 17540.
Township of Warwick | Warwick Township Office, 315 Clay Road, Lititz, PA 17543.
Township of West Cocalico | West Cocalico Township Office, 156B West Main Street, Reinholds, PA 17569.
Township of West Donegal | West Donegal Township Office, 1 Municipal Drive, Elizabethtown, PA 17022.
Township of West Earl | West Earl Township Office, 157 West Metzler Road, Brownstown, PA 17508.
Township of West Hempfield | West Hempfield Township Office, 3401 Marietta Avenue, Lancaster, PA 17601.
Township of West Lampeter | West Lampeter Township Office, 852 Village Road, Lampeter, PA 17537.
York County, Pennsylvania (All Jurisdictions)
Maps Available for Inspection Online at: http://www.fema.gov/preliminaryfloodhazarddata
Borough of Cross Roads | Cross Roads Borough Secretary's Office, 14771 Cross Mill Road, Felton, PA 17322.
Borough of Delta | Borough Office, 101 College Avenue, Delta, PA 17314.
Borough of Dillsburg | Municipal Building, 151 South Baltimore Street, Dillsburg, PA 17019.
Borough of Dover | Borough Hall, 46 Butter Road, Dover, PA 17315.
Borough of Fawn Grove | Citizens Volunteer Fire Company, 171 South Market Street, Fawn Grove, PA 17321.
Borough of Felton | Borough Office, 88 Main Street, Felton, PA 17322.
Borough of Glen Rock | Borough Building, 1 Manchester Street, Glen Rock, PA 17327.
Borough of Goldsboro | Goldsboro Municipal Building, 53 North York Street, Etters, PA 17319.
Borough of Hallam | Borough Building, 250 West Beaver Street, Hallam, PA 17406.
Borough of Hanover | Borough Office, 44 Frederick Street, Hanover, PA 17331.
Borough of Jacobus | Borough Office, 126 North Cherry Lane, Jacobus, PA 17407.
Borough of Jefferson | Jefferson Borough Office, 48 Baltimore Street, Codorus, PA 17311.
Borough of Lewisberry | Borough Community Center, 308 Market Street, Lewisberry, PA 17339.
Borough of Manchester | Borough Hall, 225 South Main Street, Manchester, PA 17345.
Borough of Mount Wolf | Borough Office, 345 Chestnut Street, Mount Wolf, PA 17347.
Borough of New Freedom | Borough Office, 49 East High Street, New Freedom, PA 17349.
Borough of North York | North York Municipal Building, 350 East Sixth Avenue, York, PA 17404.
Borough of Railroad | Borough Office, 2 East Main Street, Railroad, PA 17355.
Borough of Seven Valleys | Borough Office, 9 Maple Street, Seven Valleys, PA 17360.
Borough of Spring Grove | Borough Office, 1 Campus Avenue, Spring Grove, PA 17362.
Borough of Wellsville | Borough Office, 299 Main Street, Wellsville, PA 17365.
Borough of Windsor | Borough Building, 2 East Main Street, Windsor, PA 17366.
Borough of Wrightsville | Municipal Office, 601 Water Street, Wrightsville, PA 17368.
Borough of Yoe | Borough Building, 150 North Maple Street, Yoe, PA 17313.
Borough of York Haven | Borough Hall, 2 Pennsylvania Avenue, Storage Room, York Haven, PA 17370.
City of York | Department of Public Works, 101 South George Street, York, PA 17401.
Township of Carroll | Carroll Township Municipal Building, 555 Chestnut Grove Road, Dillsburg, PA 17019.
Township of Chanceford | Chanceford Community Building, 51 Muddy Creek Forks Road, Brogue, PA 17309.
Township of Codorus | Codorus Township Building, 4631 Shaffers Church Road, Glenville, PA 17329.
Township of Conewago | Conewago Township Secretary's Office, 490 Copenhaffer Road, York, PA 17404.
Township of Dover | Township Building, 2480 West Canal Road, Dover, PA 17315.
Township of East Hopewell | East Hopewell Township Office, 8916 Hickory Road, Felton, PA 17322.
Township of East Manchester | East Manchester Township Office, 5080 North Sherman Street Extension, Mount Wolf, PA 17347.
Township of Fairview | Fairview Township Building, 599 Lewisberry Road, New Cumberland, PA 17070.
Township of Fawn | Fawn Township Office, 245 Alum Rock Road, New Park, PA 17352.
Township of Franklin | Franklin Township Building, 150 Century Lane, Dillsburg, PA 17019.
Township of Heidelberg | Heidelberg Township Building, 6424 York Road, Spring Grove, PA 17362.
Township of Hellam | Hellam Township Office, 44 Walnut Springs Road, York, PA 17406.
Township of Hopewell | Hopewell Township Building, 3336 Bridgeview Road, Stewartstown, PA 17363.
Township of Jackson | Jackson Township Municipal Building, 439 Roth's Church Road, Spring Grove, PA 17362.
Township of Lower Chanceford | Lower Chanceford Township Building, 4120 Delta Road, Airville, PA 17302.
Township of Lower Windsor | Lower Windsor Township Building, 2425 Craley Road, Wrightsville, PA 17368.
Township of Manchester | Manchester Township Building, 3200 Farmtrail Road, York, PA 17406.
Township of Manheim | Manheim Township Building, 5191 Wool Mill Road, Glenville, PA 17329.
Township of Monaghan | Monaghan Township Municipal Office, 202 South York Road, Dillsburg, PA 17019.
Township of Newberry | Newberry Township Building, 1915 Old Trail Road, Etters, PA 17319.
Township of North Codorus | North Codorus Township Municipal Building, 1986 Stoverstown Road, Spring Grove, PA 17362.
Township of North Hopewell | North Hopewell Township Building, 13081 High Point Road, Felton, PA 17322.
Township of Paradise | Paradise Township Municipal Building, 82 Beaver Creek Road, Abbottstown, PA 17301.
Township of Peach Bottom | Peach Bottom Township Office, 529 Broad Street Extension, Delta, PA 17314.
Township of Penn | Penn Township Municipal Building, 20 Wayne Avenue, Hanover, PA 17331.
Township of Shrewsbury | Shrewsbury Township Municipal Building, 11505 Susquehanna Trail South, Glen Rock, PA 17327.
Township of Spring Garden | Spring Garden Township Zoning Office, 558 South Ogontz Street, York, PA 17403.
Township of Springettsbury | Springettsbury Township Community Development Department, 1501 Mount Zion Road, York, PA 17402.
Township of Springfield | Springfield Township Administrative Building, 9211 Susquehanna Trail South, Seven Valleys, PA 17360.
Township of Warrington | Warrington Township Municipal Building, 3345 Rosstown Road, Wellsville, PA 17365.
Township of Washington | Washington Township Municipal Building, 14 Creek Road, East Berlin, PA 17316.
Township of West Manchester | West Manchester Township Building, 380 East Berlin Road, York, PA 17408.
Township of West Manheim | West Manheim Township Office, 2412 Baltimore Pike, Hanover, PA 17331.
Township of Windsor | Windsor Township Municipal Office, 1480 Windsor Road, Red Lion, PA 17356.
Township of York | York Township Complex, Engineering Department, 190 Oak Road, Dallastown, PA 17313.

II. Non-watershed-based studies:

Community | Community map repository address
Delaware County, New York (All Jurisdictions)
Maps Available for Inspection Online at: http://www.fema.gov/preliminary floodhazarddata
Town of Andes | Town Hall, 115 Delaware Avenue, Andes, NY 13731.
Town of Bovina | Bovina Town Clerk's Office, 1866 County Highway 6, Bovina Center, NY 13740.
Town of Colchester | Colchester Town Hall, 72 Tannery Road, Downsville, NY 13755.
Town of Delhi | Town Clerk's Office, 5 Elm Street, Delhi, NY 13753.
Town of Franklin | Town Hall, 554 Main Street, Franklin, NY 13775.
Town of Hamden | Town Hall, Corner of Route 10 and Covert Hollow Road, Hamden, NY 13782.
Town of Harpersfield | Town Hall, 25399 State Highway 23, Harpersfield, NY 13786.
Town of Kortright | Kortright Town Hall, 51702 State Highway 10, Bloomville, NY 13739.
Town of Meredith | Town Hall, 4247 Turnpike Road, Meredith, NY 13806.
Town of Middletown | Middletown Building and Zoning Office, 42339 State Highway 28, Margaretville, NY 12455.
Town of Roxbury | Town Hall, 53690 State Highway 30, Roxbury, NY 12474.
Town of Stamford | Stamford Town Hall, 101 Maple Avenue, Hobart, NY 13788.
Town of Tompkins | Tompkins Town Hall, 148 Bridge Street, Trout Creek, NY 13847.
Town of Walton | Town Hall, 129 North Street, Walton, NY 13856.
Village of Delhi | Village Hall, 9 Court Street, Delhi, NY 13753.
Village of Fleischmanns | Village Hall, 1017 Main Street, Fleischmanns, NY 12430.
Village of Hobart | Community Center, 80 Cornell Avenue, Hobart, NY 13788.
Village of Margaretville | Village Hall, 773 Main Street, Margaretville, NY 12455.
Village of Stamford | Village Hall, 84 Main Street, Stamford, NY 12167.
Village of Walton | Village Hall, 21 North Street, Walton, NY 13856.
Rensselaer County, New York (All Jurisdictions)
Maps Available for Inspection Online at: http://www.fema.gov/preliminaryfloodhazarddata
Town of Hoosick | Hoosick Town Building Department, New York State Armory, 80 Church Street, Hoosick Falls, NY 12090.
Town of Pittstown | Pittstown Town Hall, 97 Tomhannock Road, Valley Falls, NY 12185.
Town of Schaghticoke | Schaghticoke Town Hall, 290 Northline Drive, Melrose, NY 12121.
Village of Hoosick Falls | Municipal Building, 24 Main Street, Hoosick Falls, NY 12090.
Village of Schaghticoke | Municipal Building, 163 Main Street, Schaghticoke, NY 12154.
Village of Valley Falls | Village Office, 11 Charles Street, Valley Falls, NY 12185.
Delaware County, Pennsylvania (All Jurisdictions)
Maps Available for Inspection Online at: http://www.fema.gov/preliminaryfloodhazarddata
Borough of Eddystone | Eddystone Borough Engineering Office, 520 West MacDade Boulevard, Milmont Park, PA 19033.
Borough of Folcroft | Borough Hall, 1555 Elmwood Avenue, Folcroft, PA 19032.
Borough of Marcus Hook | Municipal Building, 1015 Green Street, Marcus Hook, PA 19061.
Borough of Norwood | Borough Hall, 10 West Cleveland Avenue, Norwood, PA 19074.
Borough of Prospect Park | Borough Building, 720 Maryland Avenue, Prospect Park, PA 19076.
Borough of Trainer | Borough Hall, 824 Main Street, Trainer, PA 19061.
City of Chester | Planning Department, 1 Fourth Street, Chester, PA 19013.
Township of Ridley | Ridley Township Office, 100 East MacDade Boulevard, Folsom, PA 19033.
Township of Tinicum | Tinicum Township Hall, 629 North Governor Printz Boulevard, Essington, PA 19029.
Bastrop County, Texas, and Incorporated Areas
Maps Available for Inspection Online at: http://www.fema.gov/preliminaryfloodhazarddata
Unincorporated Areas of Bastrop County | Bastrop County Courthouse, 806 Water Street, Bastrop, TX 78602.
Travis County, Texas, and Incorporated Areas
Maps Available for Inspection Online at: http://www.fema.gov/preliminaryfloodhazarddata
City of Austin | Watershed Engineering Division, 505 Barton Springs Road, 12th Floor, Austin, TX 78704.
City of Creedmoor | City Hall, 5008 Hartung Lane, Creedmoor, TX 78610.
City of Mustang Ridge | City Offices, 12800 U.S. Highway 183 South, Mustang Ridge, TX 78610.
Unincorporated Areas of Travis County | Travis County Transportation and Natural Resources Department, 700 Lavaca Street, 5th Floor, Austin, TX 78701.
Isle of Wight County, Virginia, and Incorporated Areas
Maps Available for Inspection Online at: http://www.fema.gov/preliminaryfloodhazarddata
Town of Smithfield | Planning, Engineering and Public Works Department, 310 Institute Street, Smithfield, VA 23430.
Unincorporated Areas of Isle of Wight County | Isle of Wight County Planning and Zoning Department, 17140 Monument Circle, Suite 201, Isle of Wight, VA 23397.

[FR Doc. C1-2014-16051 Filed 8-13-14; 8:45 am]

BILLING CODE 1505-01-D